DEPARTMENT OF TRANSPORTATION

Federal Motor Carrier Safety Administration

49 CFR Part 365, 370, 379, 386, and 390

[Docket No. FMCSA-2025-0112]

RIN 2126-AC86

Removal of Obsolete References to “Water Carriers”

AGENCY: Federal Motor Carrier Safety Administration (FMCSA), Department of Transportation (DOT).

ACTION: Final rule.

SUMMARY: FMCSA amends its regulations to remove obsolete references to “water carriers” in the FMCSA regulations (FMCSR). FMCSA does not specifically regulate water carriers except to the extent that such carriers also engage in motor carrier operations. In such cases, the existing FMCSR provide appropriate coverage of the carrier's motor carrier operations.

DATES: Effective March 23, 2026. Petitions for reconsideration of this final rule must be submitted to the FMCSA Administrator no later than March 23, 2026.

FOR FURTHER INFORMATION CONTACT: Mr. Jeffrey L. Secrist, Chief, Registration Division, DOT, FMCSA, 1200 New Jersey Avenue SE, Washington, DC 20590; (202) 385-2367; jeff.secrist@dot.gov. If you have questions on viewing or submitting material to the docket, call Dockets Operations at (202) 366-9826.

SUPPLEMENTARY INFORMATION: FMCSA organizes this final rule as follows:

I. Availability of Rulemaking Documents

II. Abbreviations

III. Legal Basis

IV. Discussion of Proposed Rulemaking and Comments

A. Proposed Rulemaking

B. Comments and Responses

V. Section-by-Section Analysis

VI. Regulatory Analyses

A. E.O. 12866 (Regulatory Planning and Review) and DOT Regulatory Policies and Procedures

B. E.O. 14192 (Unleashing American Prosperity Through Deregulation)

C. Congressional Review Act

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

I. Availability of Rulemaking Documents

To view any documents mentioned as being available in the docket, go to https://www.regulations.gov/docket/FMCSA-2025-0112/document and choose the document to review. To view comments, click this final rule, then click “Browse Comments.” If you do not have access to the internet, you may view the docket online by visiting Dockets Operations at U.S. Department of Transportation, 1200 New Jersey Avenue SE, Washington, DC 20590-0001, between 9 a.m. and 5 p.m., Monday through Friday, except Federal holidays. To be sure someone is there to help you, please call (202) 366-9317 or (202) 366-9826 before visiting Dockets Operations.

II. Abbreviations

ANPRM Advance notice of proposed rulemaking

CFR Code of Federal Regulations

CMV Commercial motor vehicle

DOT Department of Transportation

E.O. Executive Order

FMCSA Federal Motor Carrier Safety Administration

FMCSR Federal Motor Carrier Safety Regulations

FR Federal Register

ICC Interstate Commerce Commission

ICCTA Interstate Commerce Commission Termination Act of 1995

NPRM Notice of proposed rulemaking

NTTC National Tank Truck Carriers

OMB Office of Management and Budget

OOIDA Owner-Operator Independent Drivers Association

PIA Privacy Impact Assessment

PTA Privacy Threshold Assessment

The Secretary The Secretary of Transportation

STB Surface Transportation Board

U.S.C. United States Code

III. Legal Basis

The ICC Termination Act of 1995 (ICCTA) (Pub. L. 104-88, 109 Stat. 803 (Dec. 29, 1995)) restructured the regulatory authorities previously held by the Interstate Commerce Commission (ICC). It enacted a broad delegation of jurisdiction to the Secretary of Transportation (the Secretary) and the Surface Transportation Board (STB) over domestic water transportation (i.e., transportation for compensation by water between two States) (49 U.S.C. 13521). Regulation of transportation to and from foreign countries is delegated to the Federal Maritime Commission (see generally 46 U.S.C. subtitle IV, part A; see also Kawashi Kisen Kaisha Ltd. v. Regal-Beloit Corp., 561 U.S. 89, 118-119 (2010) (dissenting opinion)).

Other provisions enacted as part of the ICCTA greatly limited the regulatory authority over water carriers, and specifically delegated it almost entirely to the STB, the Agency created to succeed the ICC. Rates and practices by water carriers engaged in “noncontiguous domestic trade” are required to be reasonable (49 U.S.C. 13701). Noncontiguous domestic trade is defined as “involving traffic originating in or destined to Alaska, Hawaii, or a territory or possession of the United States,” (49 U.S.C. 13102(26)). The STB has authority to require tariffs to be filed for such transportation in the noncontiguous domestic trade (except for transportation of bulk cargo, forest products, recycled metal scrap, wastepaper, and paper waste) and to consider complaints and to provide remedies for unreasonable rates and practices (49 U.S.C. 13702). Water carriers subject to the general jurisdiction have a common carrier obligation, but there is no specific delegation to either the Secretary or the STB for enforcing compliance. In addition, water carriers may enter into contracts for transportation and, in agreement with shippers, contractually waive any regulatory provisions except those governing registration, insurance, or safety fitness (49 U.S.C. 14101).

The Motor Carrier Safety Improvement Act of 1999 (Pub. L. 106-159, 113 Stat. 1748 (Dec. 9, 1999)) established FMCSA as a new operating administration within DOT (effective Jan. 1, 2000) to carry out the motor carrier safety and other regulatory responsibilities previously assigned to the Federal Highway Administration on behalf of the Secretary. This Act made no changes in the water carrier regulatory provisions enacted by ICCTA, which resulted in the carrying forward of certain obsolete references to water carriers into FMCSA's commercial regulations.

IV. Discussion of Proposed Rulemaking and Comments

A. Proposed Rulemaking

On May 30, 2025, FMCSA published in the Federal Register (FR) an NPRM titled “Removal of Obsolete References to `Water Carriers' ” (90 FR 22892). In the NPRM, FMCSA proposed to remove the words “water carrier” or “water carriers” from sections 365.107T,¹ 370.1, 379.1, Appendix B to part 386, and Appendix A to part 390.² The terms are remnants carried over from FMCSA's predecessor Agencies and are obsolete, as FMCSA does not have regulatory jurisdiction over water carriers.

¹ On January 17, 2017, FMCSA suspended certain regulations relating to the electronic Unified Registration System and delayed their effective date indefinitely (82 FR 5292). The suspended regulations were replaced by temporary provisions that contain the requirements in place on January 13, 2017. Section 365.107 was one of the sections suspended and § 365.107T, which is currently in effect, was one of the replacement sections added (82 FR 5299). There is no reference to water carrier or water carriers in the current existing § 365.107 (non-temporary) provision.

² FMCSA added a new appendix A to part 390 to assist motor carriers and employers in better understanding which regulations apply to their specific operations (87 FR 68367, 68370, 68372, 68376 (Nov. 15, 2022)). The guidance is also available in FMCSA's guidance portal at https://www.fmcsa.dot.gov/regulations/applicability-registration-financial-responsibility-and-safety-regulations-motor.

B. Comments and Responses

FMCSA solicited comments concerning the NPRM for 60 days ending on July 29, 2025. By that date, two comments were received from the following parties: National Tank Truck Carriers (NTTC) and the Owner-Operator Independent Drivers Association (OOIDA).

Both commenters supported the removal of the term “water carrier” and “water carriers.” NTTC stated these targeted amendments would improve the clarity, accuracy, and applicability of the FMCSRs and would benefit both the Agency and regulated entities. OOIDA likewise supported the deregulatory efforts of FMCSA to eliminate or modify unnecessary and ineffective regulations. FMCSA received no comments in opposition to the proposal presented in the NPRM.

V. Section-by-Section Analysis

This section-by-section analysis describes the changes to the regulatory text in numerical order.

Section 365.107T

Section 365.107T is amended by removing the term “water carriers” from paragraph (f), to reflect that water carriers do not submit applications for temporary operating authority to FMCSA.

Section 370.1

Section 370.1 is amended by removing the term “water carrier” to reflect that the regulations in part 370 (Principles and Practices for the Investigation and Voluntary Disposition of Loss and Damage Claims and Processing Salvage) are not applicable to water carriers.

Section 379.1

Section 379.1 is amended by removing paragraph (a)(2) (which used the term “water carriers”) and redesignating paragraph (a)(3) as paragraph (a)(2). This change is necessary to reflect that the regulations in part 379 (Preservation of Records) are not applicable to water carriers.

Appendix B to Part 386

Appendix B to Part 386 is amended by removing the words “water carrier” from paragraph (g)(17) to reflect that FMCSA does not have authority to assess civil penalties against water carriers.

Appendix A to Part 390

Appendix A to Part 390 is amended by removing the words “water carrier” from the paragraph under III. Specific Example Scenarios, called “Hotel Related Passenger Transportation.” This change reflects that, although water carriers are included in the statutory definition of carrier at 49 U.S.C. 13102(3), FMCSA's authority over the entities listed in that statute is limited to motor carriers and freight forwarders.

VI. Regulatory Analyses

A. Executive Order (E.O.) 12866 (Regulatory Planning and Review) and DOT Regulatory Policies and Procedures

FMCSA has considered the impact of this final rule under E.O. 12866 (58 FR 51735 (Oct. 4, 1993)), Regulatory Planning and Review, and DOT Order 2100.6B. The Office of Information and Regulatory Affairs within the Office of Management and Budget (OMB) determined that this final rule is not a significant regulatory action under section 3(f) of E.O. 12866 and has not reviewed it under that E.O.

The final rule removes language from predecessor Agencies that is not relevant and could be confusing. The term “water carriers” appeared in multiple areas of the FMCSRs and could have given the false appearance that these entities are subject to these regulations. Removing the term does not alter the applicability of the requirements and will streamline the language in the CFR. FMCSA does not expect that any regulated entities will change their behavior as a result of this final rule, and therefore the final rule will not result in any impacts to regulated entities other than removing unnecessary language from the CFR. It could result in some cost savings by reducing the amount of time needed to become familiar with the regulations. FMCSA assumes any realized cost savings will be de minimis. FMCSA does not have data to estimate the reduction in costs that will result from this final rule.

B. E.O. 14192 (Unleashing Prosperity Through Deregulation)

E.O. 14192 (90 FR 9065 (Feb. 6, 2025)), Unleashing Prosperity Through Deregulation, requires that for “each new [E.O. 14192 regulatory action] issued, at least 10 prior regulations be identified for elimination.” Implementation guidance for E.O. 14192 issued by OMB (Memorandum M-25-20 (Mar. 26, 2025)) defines two different types of E.O. 14192 actions: an E.O. 14192 deregulatory action, and an E.O. 14192 regulatory action.³

³ OMB, Exec. Office of the President, OMB Memorandum No. M-25-20, Guidance Implementing Section 3 of Executive Order 14192, Titled “Unleashing Prosperity Through Deregulation,” (Mar. 26, 2025).

An E.O. 14192 deregulatory action is defined as “an action that has been finalized and has total costs less than zero.” This rulemaking is expected to have total costs less than zero because it will result in a more streamlined and easy-to-read CFR, and therefore is considered an E.O. 14192 deregulatory action.

C. Congressional Review Act

This rule is not a major rule as defined under the Congressional Review Act (5 U.S.C. 801-808).” ⁴

⁴ A major rule means any rule that OMB finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act (Small Entities)

The Regulatory Flexibility Act (5 U.S.C. 601 et seq.), as amended by the Small Business Regulatory Enforcement Fairness Act of 1996,⁵ requires Federal agencies to consider the effects of the regulatory action on small business and other small entities and to minimize any significant economic impact. The term small entities means small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁵ Public Law 104-121, 110 Stat. 857 (Mar. 29, 1996).

No regulatory flexibility analysis is required, however, if the head of an Agency or an appropriate designee certifies that the rule will not have a significant economic impact on a substantial number of small entities. This final rule removes unnecessary and potentially confusing regulatory text that is no longer impacting regulated entities and would not impose costs or benefits. It may result in some cost savings by reducing the amount of time necessary to become familiar with the FMCSRs. FMCSA considers any realized cost savings to be de minimis. Consequently, I certify that the final action will not have a significant economic impact on a substantial number of small entities.

E. Assistance for Small Entities

In accordance with section 213(a) of the Small Business Regulatory Enforcement Fairness Act of 1996 (Pub. L. 104-121, 110 Stat. 857), FMCSA wants to assist small entities in understanding this final rule so they can better evaluate its effects on themselves and participate in the rulemaking initiative. If this final rule will affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this final rule will not result in such an expenditure, a written statement is not required.

G. Paperwork Reduction Act

This final rule contains no new information collection requirements under the Paperwork Reduction Act of 1995 (44 U.S.C. 3501-3520).

H. E.O. 13132 (Federalism)

A rule has implications for federalism under section 1(a) of E.O. 13132 (64 FR 43255 (Aug. 10, 1999)) if it has “substantial direct effects on the States, on the relationship between the national government and the States, or on the distribution of power and responsibilities among the various levels of government.”

FMCSA has determined that this final rule will not have substantial direct costs on or for States, nor will it limit the policymaking discretion of States. Nothing in this document preempts any State law or regulation. Therefore, this final rule does not have sufficient federalism implications to warrant the preparation of a Federalism Impact Statement.

I. Privacy

The Consolidated Appropriations Act, 2005,⁶ requires the Agency to assess the privacy impact of a regulation that will affect the privacy of individuals. This final rule will not require the collection of personally identifiable information.

⁶ Public Law 108-447, 118 Stat. 2809, 3268, note following 5 U.S.C. 552a (Dec. 4, 2014).

The Privacy Act of 1974 ⁷ (5 U.S.C. 552a) applies only to Federal agencies and any non-Federal agency that receives records contained in a system of records from a Federal agency for use in a matching program.

⁷ Public Law 93-579, 88 Stat. 1896 (Dec. 31, 1974), as amended.

The E-Government Act of 2002,⁸ requires Federal agencies to conduct a Privacy Impact Assessment (PIA) for new or substantially changed technology that collects, maintains, or disseminates information in an identifiable form. No new or substantially changed technology will collect, maintain, or disseminate information as a result of this final rule. Accordingly, FMCSA has not conducted a PIA.

⁸ Public Law 107-347, sec. 208, 116 Stat. 2899, 2921 (Dec. 17, 2002).

In addition, the Agency submitted a Privacy Threshold Assessment (PTA) to evaluate the risks and effects this rulemaking might have on collecting, storing, and sharing personally identifiable information. The PTA was adjudicated by DOT's Chief Privacy Officer on Sept. 4, 2025.

J. E.O. 13175 (Indian Tribal Governments)

This rulemaking does not have Tribal implications under E.O. 13175 (65 FR 67249 (Nov. 9, 2000)), Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this final rule pursuant to the National Environmental Policy Act of 1969 (42 U.S.C. 4321 et seq.). The Agency believes this final rule will not have a reasonably foreseeable significant effect on the quality of the human environment. This action falls under a published categorical exclusion and is therefore excluded from further analysis and documentation in an environmental assessment or environmental impact statement under DOT Order 5610.1D,⁹ Subpart B, Subsection (e). Specifically, paragraphs (e)(6)(e), (e)(6)(q), (e)(6)(u), and (e)(6)(bb), which cover regulations pertaining to applications for operating authority and certificates of registration, records preservation, rules of practice for administrative proceedings, and vehicle operation safety standards, respectively.

⁹ Available at https://www.transportation.gov/mission/dots-procedures-considering-environmental-impacts.

List of Subjects

48 CFR Part 365

Administrative practice and procedure, Brokers, Buses, Freight forwarders, Maritime carriers, Mexico, Motor carriers, Moving of household goods.

49 CFR Part 370

Freight forwarders, Investigations, Motor carriers.

49 CFR Part 379

Freight forwarders, Maritime carriers, Motor carriers, Moving of household goods, Reporting and recordkeeping requirements.

49 CFR Part 386

Administrative practice and procedure, Brokers, Freight forwarders, Hazardous materials transportation, Highway safety, Highway and roads, Motor carriers, Motor vehicle safety, Penalties.

49 CFR Part 390

Highway safety, Intermodal transportation, Motor carriers, Motor vehicle safety, Reporting and recordkeeping requirements.

Accordingly, FMCSA amends 49 CFR parts 365, 370, 379, 386, and 390 to read as follows:

PART 365—RULES GOVERNING APPLICATIONS FOR OPERATING AUTHORITY

1. The authority citation for part 365 continues to read as follows:

Authority: 5 U.S.C. 553 and 559; 49 U.S.C. 13101, 13301, 13901-13906, 13908, 14708, 31133, 31138, and 31144; 49 CFR 1.87.

2. Amend section 365.107T by revising paragraph (f) to read as follows:

§ 365.107T Types of applications.

* * * * *

(f) Temporary authority (TA) for motor carriers. These applications require a finding that there is or soon will be an immediate transportation need that cannot be met by existing carrier service.

* * * * *

PART 370—PRINCIPLES AND PRACTICES FOR THE INVESTIGATION AND VOLUNTARY DISPOSITION OF LOSS AND DAMAGE CLAIMS AND PROCESSING SALVAGE

3. The authority citation for part 370 continues to read as follows:

Authority: 49 U.S.C. 13301 and 14706; and 49 CFR 1.87.

§ 370.1 [Amended]

4. Amend section 370.1 by removing the words “, water carrier,”.

PART 379—PRESERVATION OF RECORDS

5. The authority citation for part 379 continues to read as follows:

Authority: 49 U.S.C. 13301, 14122 and 14123; and 49 CFR 1.87.

§ 379.1 [Amended]

6. Amend section 379.1 by:

a. Adding the word “and” to the end of paragraph (a)(1);

b. Removing paragraph (a)(2); and

c. Redesignating paragraph (a)(3) as paragraph (a)(2).

PART 386—RULES OF PRACTICE FOR FMCSA PROCEEDINGS

7. The authority citation for part 386 continues to read as follows:

Authority: 28 U.S.C. 2461 note; 49 U.S.C. 113, 1301 note, 31306a; 49 U.S.C. chapters 5, 51, 131-141, 145-149, 311, 313, and 315; and 49 CFR 1.81, 1.87.

8. Amend Appendix B to Part 386 by revising paragraph (g)(17) to read as follows:

Appendix B to Part 386

* * * * *

(g) * * *

(17) A motor carrier, freight forwarder, or broker, or their officer, receiver, trustee, lessee, employee, or other person authorized to receive information from them, who discloses information identified in 49 U.S.C. 14908 without the permission of the shipper or consignee is liable for a maximum penalty of $4,109.

* * * * *

PART 390—FEDERAL MOTOR CARRIER SAFETY REGULATIONS; GENERAL

9. The authority citation for part 390 continues to read as follows:

Authority: 49 U.S.C. 113, 504, 508, 31132, 31133, 31134, 31136, 31137, 31144, 31149, 31151, 31502; sec. 114, Pub. L. 103-311, 108 Stat. 1673, 1677; secs. 212 and 217, Pub. L. 106-159, 113 Stat. 1748, 1766, 1767; sec. 229, Pub. L. 106-159 (as added and transferred by sec. 4115 and amended by secs. 4130-4132, Pub. L. 109-59, 119 Stat. 1144, 1726, 1743, 1744), 113 Stat. 1748, 1773; sec. 4136, Pub. L. 109-59, 119 Stat. 1144, 1745; secs. 32101(d) and 32934, Pub. L. 112-141, 126 Stat. 405, 778, 830; sec. 2, Pub. L. 113-125, 128 Stat. 1388; secs. 5403, 5518, and 5524, Pub. L. 114-94, 129 Stat. 1312, 1548, 1558, 1560; sec. 2, Pub. L. 115-105, 131 Stat. 2263; and 49 CFR 1.81, 1.81a, 1.87.

10. In appendix A to part 390, under section III. Specific Example Scenarios, revise “Hotel Related Passenger Transportation” to read as follows:

Appendix A to Part 390—Applicability of the Registration, Financial Responsibility, and Safety Regulations to Motor Carriers of Passengers

* * * * *

III. Specific Example Scenarios

* * * * *

Hotel Related Passenger Transportation

* * * * *

Guidance: This scenario describes for-hire transportation by a CMV as a part of continuous interstate movement, though some exemptions apply. Though the safety regulations apply to transportation in a CMV within a single State if the transportation is a continuation of interstate transportation, the hotel's van operation is eligible for the limited exception to safety regulation applicability in sections 390.3T(f)(6) and 390.3(f)(6) based on the size of the vehicle and how compensation is received. The hotel's van is designed and used to transport nine to 15 passengers (including the driver), and payment for transportation is not received directly. If the hotel complies with the applicable provisions listed in sections 390.3T(f)(6) and 390.3(f)(6), then this passenger transportation is compliant with the safety regulations contained in 49 CFR parts 350 through 399. Because the vehicle is a CMV under section 390.5 and the limited exception does not exempt the hotel from USDOT registration requirements, the hotel must register by following the procedures in 49 CFR part 390 subpart E. The hotel's 15-passenger van is not a CMV under section 383.5, therefore drivers of these vehicles are not required to have CDLs and are not subject to the drug and alcohol testing regulations in 49 CFR part 382.

Operating authority registration under 49 CFR part 365, subpart A, however, is not required. The hotel is providing service subject to the exemption in 49 U.S.C. 13506(a)(8)(A) and 372.117(a). The hotel's shuttle transportation of passengers is incidental to transportation by aircraft, limited to the transportation of passengers who have had an immediately prior or will have an immediately subsequent movement by air, and confined to a zone encompassed by a 25-mile radius of the boundary of the airport at which the passengers arrive or depart. The hotel does not meet the exemption requirements of 49 U.S.C. 13506(a)(3) for a motor vehicle owned or operated by or for a hotel and only transporting hotel patrons between the hotel and the “local station of a carrier.” The definition of carrier within this exemption includes motor carrier and freight forwarder, but does not include air carrier. 49 U.S.C. 13102(3). However, the hotel only needs to meet the requirements of one exemption to not be subject to operating authority registration.

The hotel is providing indirectly compensated, for-hire transportation of passengers in interstate commerce in a vehicle with a seating capacity of 15 and is required under sections 387.33T and 387.33 to maintain $1.5 million of financial responsibility.

* * * * *

Issued under authority delegated in 49 CFR 1.87.
Derek Barrs,
Administrator.

[FR Doc. 2026-03266 Filed 2-18-26; 8:45 am]

BILLING CODE 4910-EX-P